DEPARTMENT OF THE INTERIOR

Fish and Wildlife Service

[FWS-R8-ES-2019-N009; FXES11130000-190-FF08E00000]

Endangered and Threatened Wildlife and Plants; Draft Recovery Plan for Astragalus magdalenae var. peirsonii (Peirson's Milk-Vetch)

AGENCY: Fish and Wildlife Service, Interior.

ACTION: Notice of document availability.

SUMMARY: We, the U.S. Fish and Wildlife Service, announce the availability of the Draft Recovery Plan for Astragalus magdalenae var. peirsonii (Peirson's milk-vetch) for public review and comment. The draft recovery plan includes objective, measurable criteria, and site-specific management actions as may be necessary to ameliorate threats such that the species can be removed from the Federal List of Endangered and Threatened Plants.

DATES: We must receive any comments on the draft recovery plan on or before July 8, 2019.

ADDRESSES: Document availability: You may obtain a copy of the recovery plan from our website at http://www.fws.gov/endangered/species/recovery-plans.html. Alternatively, you may contact the Carlsbad Fish and Wildlife Office, U.S. Fish and Wildlife Service, 2177 Salk Avenue, Suite 250, Carlsbad, CA 92008 (telephone 760-431-9440).

Comment submission: If you wish to comment on the draft recovery plan, you may submit your comments in writing by any one of the following methods:

• U.S. mail: Field Supervisor, at the above address;

• Hand-delivery: Carlsbad Fish and Wildlife Office, at the above address; or

• Email: fw8cfwocomments@fws.gov. For additional information about submitting comments, see the Request for Public Comments section below.

FOR FURTHER INFORMATION CONTACT: Scott Sobiech, Acting Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer necessary under the criteria specified in section 4(a)(1) of the Act. The Act requires the development of recovery plans for listed species, unless such a plan would not promote the conservation of a particular species.

Pursuant to section 4(f) of the Act, a recovery plan must, to the maximum extent practicable, include (1) a description of site-specific management actions as may be necessary to achieve the plan's goals for the conservation and survival of the species; (2) objective, measurable criteria which, when met, would support a determination under section 4(a)(1) that the species should be removed from the List of Endangered and Threatened Species; and (3) estimates of the time and costs required to carry out those measures needed to achieve the plan's goal and to achieve intermediate steps toward that goal.

The Service has revised its approach to recovery planning; the revised process is called Recovery Planning and Implementation (RPI). The RPI process is intended to reduce the time needed to develop and implement recovery plans, increase recovery plan relevancy over a longer timeframe, and add flexibility to recovery plans so they can be adjusted to new information or circumstances. Under RPI, a recovery plan will include statutorily required elements (objective, measurable criteria; site-specific management actions; and estimates of time and costs), along with a concise introduction and our strategy for how we plan to achieve species recovery. The RPI recovery plan is supported by a separate Species Status Assessment, or in cases such as this one, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy will be adaptable by being able to incorporate new information without having to concurrently revise the recovery plan, unless changes to statutory elements are required.

The Service listed Astragalus magdalenae var. peirsonii (Peirson's milk-vetch) as threatened in 1998 (63 FR 53596, October 6, 1998), and critical habitat was revised for the species in 2008 (73 FR 8747, February 14, 2008). Astragalus magdalenae var. peirsonii is a perennial member of the legume family. It has a long tap root that can penetrate deep into the sand to reach moisture and functions as an anchor for the plant in shifting sands. The plant has delicate pale purple flowers and produces large fruits containing seeds. Plants may flower in their first year and produce between one and five fruits, while older plants produce significantly more fruits.

Historically, Astragalus magdalenae var. peirsonii was found in Sonoran Desert dune environments in southeastern California, and in Sonora, Mexico. In the United States, it is currently restricted to the western portion of the Algodones Dunes of eastern Imperial County, California. This taxon occurs within about 53,000 acres (ac) (21,500 hectares (ha)) in a narrow band running 40 miles (mi) (64 kilometers (km)) northwest to southeast along the western portion of the dunes. Nearly all of the lands in the Algodones Dunes are managed by the Bureau of Land Management as the Imperial Sand Dunes Recreation Area (ISDRA). Within active dunes, the primary habitat for A. m. var. peirsonii is found on west and/or northwest-facing sides of bowls, swales, and slopes consisting of Rositas fine sands.

Astragalus magdalenae var. peirsonii is impacted by destruction of individuals and dune habitat from off-highway vehicle use and associated recreational development within the ISDRA.

Recovery Strategy

The purpose of a recovery plan is to provide a framework for the recovery of a species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this recovery plan is to control or ameliorate impacts from current threats to Astragalus magdalenae var. peirsonii such that the taxon no longer requires protections afforded by the Act and, therefore, warrants delisting. Continued outreach with our partners is needed to ensure long-term protections are afforded to A. m. var. peirsonii and its habitat. The site-specific management actions identified in the draft recovery plan are as follows:

(1) Continue monitoring of Astragalus magdalenae var. peirsonii, and ensure that the monitoring protocol informs management of the taxon and allows us to accurately assess population trends;

(2) Conduct additional research to inform management actions throughout the range of Astragalus magdalenae var. peirsonii;

(3) Ameliorate Factor A threats associated with threatened destruction, modification, or curtailment of the habitat or range; and

(4) Ameliorate Factor E threats associated with other natural or manmade factors affecting the continued existence of Astragalus magdalenae var. peirsonii.

Request for Public Comments

We request written comments on the draft recovery plan described in this notice. All comments received by the date specified in DATES will be considered in development of a final recovery plan for Astragalus magdalenae var. peirsonii. You may submit written comments and information by mail, email, or in person to the Carlsbad Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority: We developed this recovery plan and publish this notice under the authority of section 4(f) of the Act, 16 U.S.C. 1533(f).

Jody Holzworth,
Deputy Regional Director, Pacific Southwest Region.

[FR Doc. 2019-11943 Filed 6-6-19; 8:45 am]

BILLING CODE 4333-15-P